DEPARTMENT OF LABOR

Employment and Training Administration

Investigations Regarding Certifications of Eligibility To Apply for Worker Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 28, 2000.

Interested persons are invited to submit written comments regarding the subject matter of the investigations to the Director, Division of Trade Adjustment Assistance, at the address shown below, not later than August 28, 2000.

The petitions filed in this case are available for inspection at the Office of the Director, Division of Trade Adjustment Assistance, Employment and Training Administration, U.S. Department of Labor, 200 Constitution Avenue, N.W., Washington, D.C. 20210.

Signed at Washington, DC, this 31st day of July, 2000.
Grant D. Beale,
Program Manager, Division of Trade Adjustment Assistance.

Appendix
[Petitions instituted on 07/31/2000]
TA-W | Subject firm (petitioners) | Location | Date of petition | Product(s)
37,917 | Dana Corp., Marion Forge (IBM) | Marion, OH | 07/08/2000 | Custom Steel Forgings.
37,918 | Trans Regional Mfg. (Co.) | Blackville, SC | 06/15/2000 | Skirts for the Navy.
37,919 | Guess, Inc (Wkrs) | Los Angeles, CA | 07/05/2000 | Jeans and Shirts.
37,920 | Chic A Dee Packing (Wkrs) | Monmouth, ME | 07/18/2000 | Pack Apples.
37,921 | ACS Shared Services (Wkrs) | Berea, KY | 06/28/2000 | Insurance Claims.
37,922 | Fall River Mills (Wkrs) | Fall River, MA | 07/18/2000 | Bed Sheet Sets.
37,923 | GE Industrial Systems (Wkrs) | Erie, PA | 07/17/2000 | DC Motors and Component Parts.
37,924 | Banta Healthcare Group (Wkrs) | Eaton Park, FL | 07/17/2000 | Sponges—Dental and Medical.
37,925 | Wiscasset Mills (Co.) | Albemarle, NC | 07/18/2000 | Yarn.
37,926 | Philips Consumer Elect. (Wkrs) | Greenville, TN | 07/13/2000 | Television Units.
37,927 | Deka Medical—Traid Div (Wkrs) | Waynesville, NC | 07/20/2000 | Disposable Medical Drapes.
37,928 | Danecraft (Wkrs) | Providence, RI | 07/21/2000 | Jewelry.
37,929 | B.F. Goodrich Aerospace (Co.) | Euless, TX | 07/14/2000 | Landing Gear and Components.

[FR Doc. 00-20768 Filed 8-15-00; 8:45 am]

BILLING CODE 4510-30-M